DEPARTMENT OF JUSTICE

Drug Enforcement Administration

Agency Information Collection Activities; Proposed Collection; Comments Requested

ACTION: 60-day notice of information collection under review: extension of a currently approved collection; application for permit to Export Controlled Substances—DEA Form 161.

The Department of Justice (DOJ), Drug Enforcement Administration (DEA) has submitted the following collection request to the Office of Management and Budget (OMB) for review and approval in accordance with the Paperwork Reduction Act of 1995. The proposed information collection is published to obtain comments from the public and affected agencies. Comments are encouraged and will be accepted for sixty days until November 19, 2001. This process is conducted with 5 CFR 1320.10.

If you have comments, especially on the estimated public burden or associated response time, suggestions, or need a copy of the proposed information collection instrument with instructions or additional information, please contact Patricia Good, 202-307-7297, Chief, Policy and Liaison Section, Office of Diversion Control, Drug Enforcement Administration, Washington, DC 20537.

Written comments and suggestions from the public and affected agencies concerning the proposed collection of information are encouraged. Your comments should address one or more of the following four points:

1. Evaluate whether the proposed collection of information is necessary for the proper performance of the functions of the agency/component, including whether the information will have practical utility;

2. Evaluate the accuracy of the agencies/components estimate of the burden of the proposed collection of information including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of This Information

(1) Type of information collection: Extension of a currently approved collection.

(2) The title of the form/collection: Application for Permit to Export Controlled Substances—DEA Form 161.

(3) The agency form number, if any, and the applicable component of the Department sponsoring the collection: Form No. DEA Form 161. Office of Diversion Control, Drug Enforcement Administration, U.S. Department of Justice.

(4) Affected public who will be asked or required to respond, as well as a brief abstract:

Primary: Business or other-for-profit. Other: None. Title 21 CFR 1312.22 requires individuals who export controlled substances in Schedules I and II to obtain a permit from DEA. Information is used to issue export permits and exercise control over exportation of controlled substances and compile data for submission to UN for treaty requirements.

(5) An estimate of the total number of respondents and the amount of time estimated for an average respondent to respond/reply: 225 respondents, 2000 responses per year with an average of 30 minutes per response.

(6) An estimate of the total public burden (in hours) associated with the collection: 1,000 annual burden hours.

If additional information is required contact: Mr. Robert B. Briggs, Clearance Officer, United States Department of Justice, Information Management and Security Staff, Justice Management Division, United States Department of Justice, Patrick Henry Building, Suite 1600, 601 D Street NW., Washington, DC 20004.

Dated: September 13, 2001.
Robert B. Briggs,
Department Clearance Officer, United States Department of Justice.

[FR Doc. 01-23271 Filed 9-18-01; 8:45 am]

BILLING CODE 4410-09-M